DEPARTMENT OF STATE

[Public Notice: 9806]

Notice of Meeting of the International Telecommunication Advisory Committee and Preparations for Upcoming International Telecommunications Meetings

This notice announces a meeting of the Department of State's International Telecommunication Advisory Committee (ITAC) to review recent activities of the Department of State in international meetings on international communications and information policy and prepare for similar activities in the next quarter. The ITAC will meet on December 16, 2016 at 2:00 p.m. EST at: 1120 20th Street NW., Suite 1000, Washington, DC 20036 to discuss the results of recent events and preparations for upcoming meetings at the International Telecommunication Union (ITU), the Inter-American Telecommunications Commission of the Organization of American States (OAS CITEL), Organization for Economic Cooperation and Development (OECD), and Asia-Pacific Economic Cooperation Telecommunication and Information Working Group (APEC TEL). The meeting will focus on the following topics:

• Outcome of the 25 October-3 November, 2016, ITU World Telecommunication Standardization Assembly (WTSA-16) and future engagement in the ITU Telecommunication Standardization Sector

• Preparation for the 2017 World Telecommunication Development Conference (WTDC) taking place from 9 to 20 October 2017

• Preparation for the 2019 ITU World Radiocommunication Conference (WRC-19) taking place from 28 October to 22 November 2019

• Current and future work of the OECD Committee on Digital Economy Policy

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by registering on https://www.eventbrite.com/o/ebcip-11891185682 and providing his or her name, email address, and the company, organization, or community that he or she is representing, if any. Persons wishing to request reasonable accommodation during the meeting should contact jacksonln@state.gov or gadsdensf@state.gov no later than December 12, 2016. Requests made after that time will be considered, but might not be able to be fulfilled.

Please note that the Charter of the Advisory Committee has been extended until July 22, 2018, which was erroneously reflected as 2016 in Public Notice: 9658 on the Renewal of the Charter of the International Telecommunication Advisory Committee (ITAC).

FOR FURTHER INFORMATION CONTACT: Please contact Franz Zichy at 202-647-5778, zichyfj@state.gov.

Dated: November 28, 2016.
Julie N. Zoller,
Senior Deputy Coordinator, International Communications and Information Policy, U.S. State Department.

[FR Doc. 2016-28891 Filed 11-30-16; 8:45 am]

BILLING CODE 4710-AE-P